FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—05/29/2001
20011793 | Cambrex Corporation | BioScience Contact Production Corp | BioScience Contact Production Corp.
20011809 | General Dynamics Corporation | Israel Aircraft Industries Ltd | Israel Aircraft Industries Ltd.
20011817 | Suez | Suez | Nalco/Exxon Energy Chemicals L.P.
20011831 | Armor Holdings, Inc | The Kroll-O'Gara Company | O'Gara Security Associates, Inc.
|  |  | O'Gara-Hess & Eisenhardt Armoring Company
|  |  | The O'Gara Company
20011832 | L-3 Communications Holdings, Inc | Jai N. and Shashi A. Gupta | EER Systems, Inc.
20011834 | RCBA Strategic Partners, L.P | CBRE Holdings, Inc | CBRE Holding, Inc.
20011841 | RCBA Strategic Partners, L.P | CB Richard Ellis Services, Inc | CB Richard Ellis Services, Inc.
20011846 | Jones Apparel Group, Inc | McNaugton Apparel Group Inc | McNaugton Apparel Group Inc.
20011847 | General Electric Company | ORIX Corporation | ORIX Corporation
20011850 | Wells Fargo & Company | Guy Benhamou | OroAmerica, Inc.
20011862 | Carl C. Icahn | Vector Group Ltd | Vector Group Ltd.
TRANSACTIONS GRANTED EARLY TERMINATION—05/30/2001
20011849 | General Electric Company | Mellon Financial Corporation | Mellon Financial Corporation
20011852 | IHC Caland, N.V | Joseph W. & Patricia R. Blanford | Atlantia Corporation
20011855 | William Laule | Smiths Group plc | TI Group Automotive Systems (North America) LLC
20011856 | Vereniging AEGON | S. Hubert Humphrey, Jr | World Marketing Alliance, Inc. (a Georgia Corporation)
20011857 | Vesta Insurance Group, Inc | Florida Select Insurance Holdings, Inc | Florida Select Insurance Holdings, Inc.
20011858 | The Williams Companies, Inc | Barrett Resources Corporation | Barrett Resources Corporation
20011867 | Swiss Reinsurance Company | MetLife, Inc | Coning Corporation
20011869 | Cable and Wireless plc | Digital Island, Inc | Digital Island, Inc.
TRANSACTIONS GRANTED EARLY TERMINATION—05/31/2001
20011789 | International Business Machines Corporation | Informix Corporation | Informix Corporation
20011797 | General Dynamics Corporation | H Group Holdings, Inc. | Galaxy Aerospace Co. L.P.
20011833 | FS Equity Partners III, L.P | CBRE Holding, Inc. | CBRE Holding, Inc.
20011842 | Gyrus Group plc | Smith & Nephew, plc | ENT, LLC
TRANSACTIONS GRANTED EARLY TERMINATION—06/01/2001
20011860 | John C. Malone | AT&T Corp. | Liberty Media Corporation
20011866 | Ducommun Incorporated | Composite Structures, LLC | Composite Structures, LLC
20011881 | Heartland Industrial Partners, L.P | Springs Industries, Inc | Springs Industries, Inc
TRANSACTIONS GRANTED EARLY TERMINATION—06/04/2001
20011802 | Domtar, Inc | Georgia-Pacific Corporation | Nekoosa Papers Inc
20011848 | Xcel Energy Inc | Conectiv | Atlantic City Electric Company
|  |  | Delmarva Power & Light Company
20011874 | Brian L. Roberts | AT&T Corp | AT&T Corp.
20011883 | Stichting Administratiekantoor Vanenburg Capital Management | WebEx Communications, Inc | WebEx Communications, Inc.
20011900 | Manpower Inc | Jefferson Wells International, Inc | Jefferson Wells International, Inc.
20011909 | AMVESCAP PLC | Old Mutual PLC | Pell Rudman & Co., Inc.
|  |  | Pell Rudman Trust Company, N.A.
|  |  | Rothschild/Pell Rudman, Inc.
|  |  | Sovereign Financial Services, Inc.
TRANSACTION GRANTED EARLY TERMINATION—06/05/2001
20011836 | General Maritime Ship Holdings Ltd | Boss, L.P | Boss, L.P
20011838 | Peter C. Georgiopoulos | General Maritime Ship Holdings Ltd | General Martime Ship Holdings Ltd.
20011839 | General Maritime Ship Holdings Ltd | OCM Principal Opportunities Fund, L.P | Ajax II, L.P.
20011840 | OCM Principal Opportunities Fund, L.P | General Maritime Ship Holdings Ltd | General Maritime Ship Holdings Ltd.
20011865 | General Electric Company | NBC Internet, Inc | NBC Internet, Inc.
20011873 | Xcel Energy Inc | Gerald R. Forsythe | Indeck-Bourbonnais, L.L.C.
|  |  | Indeck-Equipment Company, L.L.C.
|  |  | Indeck-IIion Limited Partnership
|  |  | Indeck-Rockford Equipment II, L.L.C.
|  |  | Indeck-Rockford Equipment, L.L.C.
|  |  | Indeck-Rockford II, L.L.C.
|  |  | Indeck-Rockford, L.L.C.
20011875 | El Paso Corporation | A. Ahlstrom Corporation | Ahlstrom Development Corporation
20011879 | General Electric Company | General Electric Company | GE-Harris Railway Electronic LLC
20011880 | State Street Corporation | DST Systems, Inc | DST Portfolio Systems, Inc.
20011882 | Ingenico S.A | IVI Checkmate Corp | IVI Checkmate Corp
20011884 | Aon Corporation | Carl Westcott | First Extended, Inc.
20011887 | Dimension Data Holdings plc | Proxicom, Inc | Proxicom, Inc.
20011888 | Alimentation Couche-Tard Inc | Richard L. Johnson & Ruth W. Johnson, Trustees | Johnson Oil Company, Inc.
|  |  | Smith Oil Company of Kankakee
20011889 | Illinois Tool Works Inc | The Texwipe LLC | Texwipe International LLC
|  |  | Texwipe/Synatx LLX
|  |  | The Texwipe Company LLC
20011899 | Donna Karan & Stephen Weiss | Bernard Arnault | New Donna Karan International, Inc.
TRANSACTIONS GRANTED EARLY TERMINATION—06/06/2001
20011790 | The Bank of New York Company, Inc | The Charles Schwab Corporation | U.S. Trust Company of Florida Savings Bank
|  |  | U.S. Trust Company, National Association
|  |  | United States Trust Company of New York
20011868 | SIG Holding AG | CIR-Compagnie Industriali Riunite S.p.A | Sasib S.p.A.
20011891 | Parker Hannifin Corporation | Dana Corporation | Dana Corporation
20011896 | Kerr-McGee Corporation | HS Resources, Inc | HS Resources, Inc.
TRANSACTIONS GRANTED EARLY TERMINATION—06/07/2001
20011859 | Tyco International, Ltd | Novartis AG | Novartis Corporation
20011907 | Mizuho Holdings, Inc | Fifth Third Bancorp | Fifth Third Bancorp

FOR FURTHER INFORMATION CONTACT: Sandra M. Peay or Parcellena P. Fielding, contact representatives, Federal Trade Commission, Premerger Notification Office, Bureau of Competition, Room 303, Washington, DC 20580, (202) 326-3100.

By Direction of the Commission.
Donald S. Clark,
Secretary

[FR Doc. 01-16933 Filed 7-5-01; 8:45 am]

BILLING CODE 6750-01-M